DEPARTMENT OF ENERGY

10 CFR Part 431

[Docket No. EERE-2012-BT-STD-0029]

RIN 1904-AC82

Energy Efficiency Program for Commercial and Industrial Equipment: Public Meeting and Availability of the Framework Document for Packaged Terminal Air Conditioners and Packaged Terminal Heat Pumps; Correction

AGENCY: Office of Energy Efficiency and Renewable Energy, DOE.

ACTION: Notice of public meeting and availability of the framework document; correction.

SUMMARY: The U.S. Department of Energy (DOE) published a notice in the Federal Register on February 22, 2013, concerning an announcement of a public meeting and availability of the framework document for packaged terminal air conditioners and heat pumps. This document corrects the date of the public meeting.

FOR FURTHER INFORMATION CONTACT: Mr. Ronald Majette, U.S. Department of Energy, Office of Energy Efficiency and Renewable Energy, Building Technologies, EE-2J, 1000 Independence Avenue SW., Washington, DC 20585-0121. Telephone: (202) 586-7935. Email: PTACs@ee.doe.gov.

Ms. Jennifer Tiedeman, U.S. Department of Energy, Office of the General Counsel, GC-71, 1000 Independence Avenue SW., Washington, DC 20585-0121. Telephone: (202) 287-6111. Email: Jennifer.Tiedeman@hq.doe.gov.

Correction

DOE published a notice in the Federal Register on February 22, 2013 (78 FR 12252), concerning an announcement of a public meeting and availability of the framework document for packaged terminal air conditioners and heat pumps. This notice corrects the date of the public meeting. The public meeting will now be held on Monday, March 18, 2013, beginning at 9 a.m.

The purpose of the meeting is to discuss and receive comments on DOE's planned analytical approach and issues it will address in initiating a rulemaking and data collection process to consider amending energy conservation standards for this equipment.

Issued in Washington, DC, on February 26, 2013.
Kathleen B. Hogan,
Deputy Assistant Secretary for Energy Efficiency, Energy Efficiency and Renewable Energy.

[FR Doc. 2013-04878 Filed 3-1-13; 8:45 am]

BILLING CODE 6450-01-P